DEPARTMENT OF THE INTERIOR

Office of the Secretary

[GX14AE3800C2000]

National Environmental Policy Act: Implementing Procedures; Revision to Categorical Exclusions for U.S. Geological Survey (516 DM 9)

AGENCY: Department of the Interior.

ACTION: Notice.

SUMMARY: This notice announces proposed revisions to two existing categorical exclusions included in the Department of the Interior's Departmental Manual 516 DM 9. The proposed revisions to the categorical exclusions pertain to two types of activities conducted by the U.S. Geological Survey (USGS): the excavation of trenches across potentially active faults to assess the history of earthquakes along those faults; and the removal of hydrologic and water-quality monitoring structures and equipment and restoration of the sites. USGS experience with these activities indicates that they do not have the potential for significant environmental impacts. The intent of the revisions is to improve the efficiency of the environmental review process.

DATES: Comments are due by September 22, 2014.

ADDRESSES: Send comments to Esther Eng, Chief, Environmental Management Branch, USGS, MS-207, 12201 Sunrise Valley Dr., Reston, VA 20192-0002; email: eeng@usgs.gov.

FOR FURTHER INFORMATION CONTACT: Esther Eng, Chief, Environmental Management Branch, USGS, (703) 648-7550, eeng@usgs.gov.

SUPPLEMENTARY INFORMATION:

Background

The National Environmental Policy Act (NEPA) requires Federal agencies to consider the potential environmental consequences of their proposed actions before deciding whether and how to proceed. The Council on Environmental Quality encourages Federal agencies to use categorical exclusions to protect the environment more efficiently by (a) reducing the resources spent analyzing proposals that generally do not have potentially significant environmental impacts and, (b) focusing resources on proposals that may have significant environmental impacts. The appropriate use of categorical exclusions allows the NEPA review to be concluded without preparing either an environmental assessment (EA) or an environmental impact statement (EIS) (40 CFR 1500.4(p) and 40 CFR 1508.4).

Proposed Categorical Exclusion Revision for Trenching

The Department of the Interior (DOI) proposes to revise an existing categorical exclusion in the Departmental Manual at 516 DM 9, from “Digging of exploratory trenches requiring less than 20 cubic yards of excavation” to “Digging and subsequent site restoration of exploratory trenches not to exceed one acre of surface disturbance.” The categorical exclusion would be limited to trenching and associated activities resulting in a total land disturbance of one acre or less, and which do not adversely affect any biological, cultural, or archeological resources. As with any USGS categorical exclusion, each proposed trench excavation must be reviewed for extraordinary circumstances that would preclude use of this categorical exclusion. This requirement is found in DOI regulations at 43 CFR 46.205(c)(1). The DOI's list of extraordinary circumstances, under which a normally excluded action would require further analysis and documentation in an EA or EIS, is found at 43 CFR 46.215.

Analysis for the Trenching Category

The USGS excavates trenches across potentially active faults to assess the history of earthquakes along those faults. The study of ancient earthquakes and their rates of occurrence are known as paleoseismology. Paleoseismic data obtained from trenching studies is a fundamental input for USGS National Seismic Hazard Maps. The USGS National Seismic Hazard Maps, in turn, are used to inform emergency response and to guide building codes.

The USGS and its State and academic partners were involved in approximately 10 fault-trenching activities per year during the last 5 years. A fault trench involves an excavation or series of closely spaced excavations across the surface expression of an active fault to expose deformed soils and deposits. Field geologists map the exposed trench walls and date deformed strata to infer the earthquake history at the site.

Land disturbance in trenching studies is minimized by choosing sites near established roads or previously disturbed sites. Scientists involved in USGS fault-trenching activities were queried about the largest area of trenching disturbance they have encountered in the last 5 years with no significant environmental impacts. Respondents reported a range of upper limits of surface disturbance from .02 to 5 acres, with an average of 1.5 acres and a median of 1 acre. The USGS believes that environmental impacts are more likely to arise from the extent of surface disturbance than from the depth of a trench. Accordingly, the USGS chose acreage as a more indicative measure of disturbance than volume excavated. Relying upon the last 5 years of experience with fault-trenching, the USGS chose the 1-acre median upper limit of surface disturbance to limit the proposed categorical exclusion.

Prior to trenching activities, external consultations are conducted with appropriate Federal, State, Tribal, and local agencies. When on Federal, State, or Tribal lands, the agency with jurisdiction over the study area is consulted to complete required biological, cultural and archeological evaluations and to obtain any required permits. When trenching on private lands, the landowner is consulted and a written contract or statement is negotiated. USGS research personnel and their contractors work with landowners and responsible agencies to ensure that their expectations for access, duration of the project, and reclamation are clearly followed.

Mitigation measures during trenching activities include avoiding wetland and riparian areas. This not only minimizes impacts, but also prevents groundwater from filling the research trenches. Existing roads are used for access. Other mitigation measures include taking machinery in and out of each trenching site on the same path, minimizing the volume of the excavation, installing silt fences where needed, and following Occupational Safety and Health Administration standards for safety, which include trench dimensions and heights, fencing, and warning signs (to keep out livestock and the public). Trenches are left open on average for 3 weeks before being backfilled.

Site restoration activities include backfilling to existing grade and compacting the fill, seeding the area with non-invasive species, installing biodegradable wattles and erosion-control blankets if slopes were disturbed, and returning the site to pre-excavation condition. While it has always been assumed that site restoration was a part of the trenching activity, “subsequent site restoration” is proposed to be added to the category's description to clarify that it is an integral part of the project.

Sites are revisited in the years following investigations to ensure there is no degradation to the trenching site. Observed degradation has been limited to continued noxious weed growth at sites where weeds were already present at the time of excavation.

The USGS environmental staff reviewed past activities to determine if any unanticipated impacts had occurred as a result of trenching. The staff concluded that a sufficient administrative record exists to demonstrate that fault-trenching activities normally would not have a significant impact on the human environment, with the following limitations: the land surface area disturbed by the trenching and associated activities must be one acre or less; and each trenching site must be reviewed for extraordinary circumstances, including potential impacts to biological, cultural and archeological resources. The review for extraordinary circumstances, which the USGS conducts for all categorical exclusions, ensures that measures would continue to be taken to identify and reduce any significant impacts.

Proposed Revision to the Categorical Exclusion for Water Monitoring Equipment

The DOI proposes to revise another existing categorical exclusion in the Departmental Manual at 516 DM 9 by adding the activity of removing monitoring structures and equipment and site restoration, and by clarifying the purpose of the identified water monitoring equipment. The current category, “Operation, construction and installation of: (a) Water-level or water quality recording devices in wells; (b) pumps in wells; (c) surface-water flow measuring equipment such as weirs and streamgaging stations, and (d) telemetry systems, including contracts therefore.” would be changed to “Operation, construction, installation, and removal—including restoration of sites to the pre-structure condition or equivalent of the surrounding environment—of hydrologic and water-quality monitoring structures and equipment including but not limited to weirs, cableways, streamgaging stations, groundwater wells, and meteorologic structures.” As with any USGS categorical exclusion, each proposed monitoring structure and equipment removal must also be reviewed for extraordinary circumstances that would preclude use of this categorical exclusion. This requirement is found in DOI regulations at 43 CFR 46.205(c)(1). The DOI's list of extraordinary circumstances under which a normally excluded action would require further analysis and documentation in an EA or EIS is found at 43 CFR 46.215.

Analysis for the Monitoring Equipment Category

One of the seven science mission areas of the USGS, the Water Mission Area, is tasked with collecting and disseminating reliable, impartial, and timely information is needed to understand the Nation's water resources. The Water Mission Area actively promotes the use of this information by decision makers to: (1) Minimize loss of life and property as a result of water-related natural hazards, such as floods, droughts, and land movement; (2) effectively manage groundwater and surface-water resources for domestic, agricultural, commercial, industrial, recreational, and ecological uses; (3) protect and enhance water resources for human health, aquatic health, and environmental quality; and (4) contribute to the wise physical and economic development of our nation's resources for the benefit of present and future generations. To achieve this science mission, the USGS constructs and operates a variety of hydrologic and water-quality monitoring structures and equipment at streams, rivers, springs, wellheads, and other sites across the Nation. After these structures are no longer needed for scientific data collection, they are removed and the site is restored.

A limited number of hydrologic monitoring structures were removed by the USGS before passage of the American Recovery and Reinvestment Act (ARRA) of 2009 due to budgetary constraints. Removal of a large number of hydrologic monitoring structures (commonly, abandoned stilling wells and platform gages) and a small number of cableways was completed with the one-time funding made available under the ARRA to the USGS Deferred Maintenance Program. All equipment inside each structure was retrieved before a stilling well or platform structure was removed. Water intakes to the monitoring structures were completely removed or cut off and then backfilled with sediment so nothing was left above grade. Platforms, walkways, and cableway structures were also removed.

A majority of the USGS hydrologic and water-quality monitoring structures across the nation are installed and operated in cooperation with Federal, State, Tribal, or local agencies that contribute funding for the data collection at the site. Therefore, prior to removal activities, external consultations are conducted with all co-funding agencies. If the monitoring site is located on Federal, State, Tribal, or local agency property, the agency administering the land is consulted. When the structure is on private land, the landowner is likewise consulted about proposed removal activities. Biological and cultural assessments are conducted when the site is in a sensitive environmental setting or when required by the government agency or private landowner.

Site restoration activities include removal of demolition debris from the site, backfilling holes or depressions to existing grade and compacting the fill, stabilizing any disturbed areas, seeding the area with non-invasive species, and returning the site to pre-structure condition or equivalent to the surrounding environment.

The USGS environmental staff reviewed past activities to determine if any unanticipated impacts had occurred as a result of removing hydrologic and water-quality monitoring equipment at streams, rivers, springs, wellheads, and other sites. The staff concluded that a sufficient administrative record exists to demonstrate that hydrologic and water-quality monitoring structure and equipment removal, including site restoration, normally would not have a significant impact on the quality of the human environment.

The USGS proposes to clarify the current category by re-characterizing the current list of structures as “hydrologic and water-quality monitoring structures and equipment” and by providing examples of typical structures being installed, maintained, and removed. The revised text is intended to more accurately reflect how the category has been interpreted and used by USGS personnel by describing the actions taking place, in lieu of describing current technologies, which may change over time.

Over the past two decades the types of monitoring structures have changed substantially. Advances in technology have produced water monitoring equipment with smaller environmental footprints. For example, the current generation of surface-water monitoring structures commonly being installed consists of an aluminum box with a nominal size of 3 feet by 3 feet by 1 foot mounted to or near a bridge structure. Inside the enclosure are a variety of electronic instruments used to measure and record water levels and water-quality conditions. In contrast, legacy surface-water monitoring equipment consists of concrete or metal stilling wells with mechanical floats located along stream banks or at bridge sites; these wells measure up to 5 ft. in diameter. Installation and removal of the new generation of surface-water monitoring stations has less potential for environmental impacts.

Public Comments

To be considered, any comments on these proposed revisions to the list of categorical exclusions in the Departmental Manual must be received by the date listed in the DATES section of this notice at the location listed in the ADDRESSES section. Comments received after that date will be considered only to the extent feasible. Comments, including names and addresses of respondents, will be part of the public record and available for public review at the USGS address shown in the ADDRESSES section, during business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Text of Proposed Revisions to 516 DM 9, Section 9.5 Categorical Exclusions

E. Operation, construction, installation, and removal—including restoration of sites to the pre-structure condition or equivalent of the surrounding environment—of hydrologic and water-quality monitoring structures and equipment including but not limited to weirs, cableways, streamgaging stations, groundwater wells, and meteorologic structures.

I. Digging and subsequent site restoration of exploratory trenches not to exceed one acre of surface disturbance.

Dated: July 24, 2014.
Willie R. Taylor,
Director, Office of Environmental Policy and Compliance.

[FR Doc. 2014-19953 Filed 8-21-14; 8:45 am]

BILLING CODE 4310-AM-P